DEPARTMENT OF COMMERCE

National Oceanic and Atmospheric Administration

Proposed Information Collection; Comment Request; Alaska Region Bering Sea & Aleutian Islands Crab Permits

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 21, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

This is an extension of a currently approved collection.

The Crab Rationalization Program allocates Bering Sea and Aleutian Islands (BSAI) crab resources among harvesters, processors, and coastal communities through a limited access system that balances the interests of these groups who depend on these fisheries. Program components include quota share allocation, processor quota share allocation, individual fishing quota and individual processing quota issuance, quota transfers, use caps, crab harvesting cooperatives, protections for Gulf of Alaska groundfish fisheries, arbitration system, monitoring, economic data collection, and cost recovery fee collection.

II. Method of Collection

On paper (faxed or mailed) or electronically. The Annual RCR Ex-Vessel Volume and Value Report, Crab Inter-Cooperative IFQ Transfer, and Transfer of Crab IPQ may be completed online.

III. Data

OMB Control Number: 0648-0514.

Form Number: None.

Type of Review: Regular Submission (extension of a currently approved collection).

Affected Public: Business or other for-profit organizations; individuals or households.

Estimated Number of Respondents: 1,920.

Estimated Time per Response: 2.5 hours for Application for Crab Individual Fishing Quota (IFQ) permit; 2.5 hours for Application for Crab Individual Processor Quota (IPQ) permit; 2.5 hours for Application for annual crab harvesting cooperative IFQ permit; 30 minutes for Application for Registered Crab Receiver (RCR) permit; 35 minutes for Application for crab IFQ hired master; 35 minutes for Application for Federal crab vessel permit; 2.5 hours for Application to become an eligible crab community organization (ECCO); 2 hours for Application for eligibility to receive Crab QS/IFQ or PQS/IPQ by transfer; 2 hours for Application for transfer of Crab QS/IFQ or PQS/IPQ; 2 hours for Application to transfer QS/IFQ to or from an ECCO; 2 hours for Application for Transfer of IFQ between Crab Harvesting Cooperatives; 30 minutes for RCR fee submission form; 40 hours for Right of First Refusal Provisions (ROFR); 30 minutes for ROFR Waiver; and 4 hours to file an appeal to NMFS Permit Decisions.

Estimated Total Annual Burden Hours: 4,472.

Estimated Total Annual Cost to Public: $ 12,425 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 13, 2011.
Gwellnar Banks,
Management Analyst, Office of the Chief Information Officer.

[FR Doc. 2011-957 Filed 1-18-11; 8:45 am]

BILLING CODE 3510-22-P